DEPARTMENT OF COMMERCE

Foreign-Trade Zones Board

[B-46-2020]

Foreign-Trade Zone 61—San Juan, Puerto Rico; Application for Expansion of Subzone 61T; Plaza Warehousing & Realty Corporation; Caguas, Puerto Rico

An application has been submitted to the Foreign-Trade Zones (FTZ) Board by the Department of Economic Development and Commerce, grantee of FTZ 61, requesting an expansion of Subzone 61T on behalf of Plaza Warehousing & Realty Corporation. The application was submitted pursuant to the provisions of the Foreign-Trade Zones Act, as amended (19 U.S.C. 81a-81u), and the regulations of the FTZ Board (15 CFR part 400). It was formally docketed on July 20, 2020.

Subzone 61T was approved on January 18, 2018 (S-147-2017, 83 FR 3112, January 23, 2018) subject to FTZ 61's 1,821.07-acre activation limit. The subzone currently consists of one site (15.5 acres) located at Road #1, Km 27.9, Barrio Rio Cañas, Caguas.

The applicant is requesting authority to expand the subzone to include an additional 6.33 acres located at Road #1, Km 23.5, Barrio Rio Cañas, Caguas. The proposed area is located immediately adjacent to the existing site. The applicant is further requesting that the expanded subzone (existing and proposed) not be subject to FTZ 61's 1,821.07-acre activation limit. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is September 8, 2020. Rebuttal comments in response to material submitted during the foregoing period may be submitted during the subsequent 15-day period to September 21, 2020.

A copy of the application will be available for public inspection in the “Reading Room” section of the FTZ Board's website, which is accessible via www.trade.gov/ftz.

For further information, contact Camille Evans at Camille.Evans@trade.gov or (202) 482-2350.

Dated: July 20, 2020.
Andrew McGilvray,
Executive Secretary.

[FR Doc. 2020-16324 Filed 7-27-20; 8:45 am]

BILLING CODE 3510-DS-P